DEPARTMENT OF AGRICULTURE

Animal and Plant Health Inspection Service

[Docket No. APHIS-2011-0128]

Notice of Request for Approval of an Information Collection; Importation of Animal and Poultry Products (Milk and Eggs) Into the United States

AGENCY: Animal and Plant Health Inspection Service, USDA.

ACTION: Approval of an information collection; comment request.

SUMMARY: In accordance with the Paperwork Reduction Act of 1995, this notice announces the Animal and Plant Health Inspection Service's intention to request approval of an information collection associated with regulations for the importation of animal and poultry products (milk and eggs) into the United States.

DATES: We will consider all comments that we receive on or before April 3, 2012.

ADDRESSES: You may submit comments by either of the following methods:

• Federal eRulemaking Portal: Go to http://www.regulations.gov/#!documentDetail;D=APHIS-2011-0128-0001.

• Postal Mail/Commercial Delivery: Send your comment to Docket No. APHIS-2011-0128, Regulatory Analysis and Development, PPD, APHIS, Station 3A-03.8, 4700 River Road Unit 118, Riverdale, MD 20737-1238.

Supporting documents and any comments we receive on this docket may be viewed at http://www.regulations.gov/#!docketDetail;D=APHIS-2011-0128 or in our reading room, which is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: For information on the importation of animal and poultry products (milk and eggs) into the United States, contact Dr. Lynette Williams-McDuffie, Staff Veterinarian, Technical Trade Services—Products, NCIE, VS, APHIS, 4700 River Road Unit 40, Riverdale, MD 20737; (301) 734-3277. For copies of more detailed information on the information collection, contact Mrs. Celeste Sickles, APHIS' Information Collection Coordinator, at (301) 851-2908.

SUPPLEMENTARY INFORMATION: Title: Importation of Animal and Poultry Products (Milk and Eggs) Into the United States.

OMB Number: 0579-xxxx.

Type of Request: Approval of an information collection.

Abstract: Under the authority of the Animal Health Protection Act (7 U.S.C. 8301 et seq.), the Animal and Plant Health Inspection Service (APHIS) regulates the importation of certain animal and poultry products and byproducts to prevent the introduction of pests and diseases of livestock and poultry into the United States. These regulations are found at 9 CFR parts 94, 95, 96, and 122.

The regulations require a number of information collection activities to prevent the introduction of livestock and poultry diseases and pests via the importation of animal and poultry products and byproducts, including milk and eggs, into the United States. For milk and eggs, these include applications for approval/report of inspection of establishments to handle restricted animal byproducts or controlled materials; agreements for handling restricted imports of animal byproducts and controlled materials; certifications for eggs (other than hatching eggs); applications for the importation of eggs (other than hatching eggs) in specific cases; applications for the importation of small amounts of milk/milk products for analysis, testing, or examination; certificates of origin for milk and milk products from regions free of foot-and-mouth disease and rinderpest; and marking requirements for eggs from regions with exotic Newcastle disease.

These activities are currently approved by the Office of Management and Budget (OMB) under OMB control number 0579-0015, which also covers information collection activities for a variety of other animal and poultry products imported into the United States. We are proposing to separate the commodities previously approved under OMB control number 0579-0015 into individual collections to better reflect the commodities' specific collection activities and account for the information APHIS collects. Once approved by OMB, only information collection activities associated with the importation of nonfood animal and poultry products and byproducts will be under OMB control number 0579-0015. Information collection activities for milk and eggs and other commodities now covered under OMB control number 0579-0015 will receive new numbers when approved.

We are asking the Office of Management and Budget (OMB) to approve our use of these information collection activities related to the importation of milk and eggs for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.998316334 hours per response.

Respondents: Processing operators; foreign national governments; foreign veterinarians; and importers and exporters.

Estimated annual number of respondents: 227.

Estimated annual number of responses per respondent: 900.0704846.

Estimated annual number of responses: 204,316.

Estimated total annual burden on respondents: 408,288 hours. (Due to averaging, the total annual burden hours may not equal the product of the annual number of responses multiplied by the reporting burden per response.)

All responses to this notice will be summarized and included in the request for OMB approval. All comments will also become a matter of public record.

Done in Washington, DC, this 30th day of January 2012.
Kevin Shea,
Acting Administrator, Animal and Plant Health Inspection Service.

[FR Doc. 2012-2444 Filed 2-2-12; 8:45 am]

BILLING CODE 3410-34-P